DEPARTMENT OF DEFENSE

Office of the Secretary

Federal Advisory Committee; Military Leadership Diversity Commission (MLDC)

AGENCY: Office of the Under Secretary of Defense for Personnel and Readiness, DoD.

ACTION: Meeting notice.

SUMMARY: Under the provisions of the Federal Advisory Committee Act of 1972 (5 U.S.C., Appendix, as amended), the Government in the Sunshine Act of 1976 (5 U.S.C. 552b, as amended), and 41 CFR 102-3.150, the Department of Defense announces that the Military Leadership Diversity Commission (MLDC) will meet April 21-23, 2010. Subject to the availability of space, the meeting is open to the public.

DATES: The meeting will be held:

April 21, 2010 from 8 a.m. to 1:15 p.m.

April 22, 2010 from 8 a.m. to 5:45 p.m.

April 23, 2010 from 8 a.m. to 5:15 p.m.

ADDRESSES: The meeting will be held at the Holiday Inn, Fishkill, 542 Route 9, Fishkill, NY 12524-2224.

FOR FURTHER INFORMATION CONTACT: Master Chief Steven A. Hady, Designated Federal Officer, MLDC, at (703) 602-0838, 1851 South Bell Street, Suite 532, Arlington, VA. E-mail: steven.Hady@wso.whs.mil.

SUPPLEMENTARY INFORMATION:

Purpose of the Meeting

The purpose of the meeting is for the commissioners of the Military Leadership Diversity Commission to continue their efforts to address congressional concerns as outlined in the commission charter.

Agenda

April 21, 2010

8 a.m.-1:15 p.m.

DFO opens meeting.

Commission Chairmen opening remarks.

Dr. Rohini Anand and Mr. Michael Montelongo brief MLDC on diversity efforts at Sodexo.

Dr. R. Roosevelt Thomas briefs the MLDC on effective diversity practices in the private sector.

Dr. Edward Hubbard briefs the MLDC on diversity metrics.

Mr. Luke Visconti briefs the MLDC on effective diversity practices in the private sector.

Open discussion on implementation and accountability DFO adjourns the meeting.

April 22, 2010

8 a.m.-11:45 a.m.

DFO opens the meeting.

Commission Chairman opening remarks.

Dr. Meg Harrell, RAND, briefs the MLDC on barriers to minority participation in the special forces and the assignment policy for military women.

Decision Brief: Career Development: Branching and Assignments DFO recesses the meeting.

12:45 p.m.-5:45 p.m.

DFO opens the meeting.

Open discussion on legal implications of diversity management Decision Brief: Definition of Diversity.

Open discussion on promotion.

Open discussion on retention.

Commission Chairman closing remarks.

DFO adjourns the meeting.

April 23, 2010

8 a.m.-11:30 a.m.

DFO opens the meeting.

Commission Chairman opening remarks.

Open discussion on metrics.

Briefings from the Office of the Secretary of Defense (OSD) and Service representatives from organizations responsible for metrics.

DFO recesses the meeting.

12:30 p.m.-5:15 p.m.

DFO opens meeting.

Briefings from OSD and Service representatives from organizations responsible for metrics (continued).

Public comments.

Commission Chairman closing remarks.

DFO adjourns the meeting.

Public's Accessibility to the Meeting

Pursuant to 5 U.S.C. 552b and 41 CFR 102-3.140 through 102-3.165, and the availability of space, the meetings on April 21 thru 23, 2010 will be open to the public. Please note that the availability of seating is on a first-come basis.

Written Statements

Pursuant to 41 CFR 102-3.105(j) and 102-3.140, and section 10(a)(3) of the Federal Advisory Committee Act of 1972, the public or interested organizations may submit written statements to the Military Leadership Diversity Commission about its mission and functions. Written statements may be submitted at any time or in response to the stated agenda of a planned meeting of the Military Leadership Diversity Commission.

All written statements shall be submitted to the Designated Federal Officer for the Military Leadership Diversity Commission, and this individual will ensure that the written statements are provided to the membership for its consideration. Contact information for the Designated Federal Officer can be obtained from the GSA's FACA Database— https://www.fido.gov/facadatabase/public.asp.

Statements being submitted in response to the agenda mentioned in this notice must be received by the Designated Federal Officer (see FOR FURTHER INFORMATION CONTACT) at least five calendar days prior to the meeting that is the subject of this notice. Written statements received after this date may not be provided to or considered by the Military Leadership Diversity Commission until its next meeting.

The Designated Federal Officer will review all timely submissions with the Military Leadership Diversity Commission Chairperson and ensure they are provided to all members of the Military Leadership Diversity Commission before the meeting that is the subject of this notice.

Dated: March 29, 2010.
Mitchell S. Bryman,
Alternate OSD Federal Register Liaison Officer, Department of Defense.

[FR Doc. 2010-7381 Filed 4-1-10; 8:45 am]

BILLING CODE 5001-06-P